DEPARTMENT OF HOMELAND SECURITY

Coast Guard

[Docket No. USCG-2015-0950]

Sewage Treatment Technology—Type Approval of Marine Sanitation Devices

AGENCY: Coast Guard, DHS.

ACTION: Notice of meeting.

SUMMARY: The Coast Guard will conduct a public workshop in Washington, DC to discuss sewage treatment technologies, issues concerning testing of marine sanitation devices for type approval, and issues concerning gray water. This workshop is intended to be an interactive exchange of information between policymakers, industry experts, and interested members of the public.

DATES: The workshop will be held on Tuesday and Wednesday, December 8 and 9, 2015 beginning at 9:30 a.m. and ending at 4 p.m., Eastern Time. This workshop is open to the public. Please note that the workshop has a limited number of seats and may close early if all business is finished. Contact the Coast Guard (see FOR FURTHER INFORMATION CONTACT) by December 4, 2015 to reserve seating. The comment period for the docket closes January 9, 2016.

ADDRESSES: The workshop will be held in conference rooms 8, 9, and 10 of the Department of Transportation Headquarters Building, 1200 New Jersey Ave. SE., Washington, DC 20590. The building is accessible by public transportation (Navy Yard subway station) or taxi. Parking for privately-owned vehicles is available nearby. Due to security requirements, each visitor must present a valid government-issued photo identification (for example, a driver's license) in order to gain entrance to the building. Contact the Coast Guard (see FOR FURTHER INFORMATION CONTACT) to facilitate the security process related to building access, or to request reasonable accommodation.

You may submit comments identified by docket number USCG-2015-0950 using the Federal eRulemaking Portal at http://www.regulations.gov. See SUPPLEMENTARY INFORMATION for further instructions on submitting comments.

FOR FURTHER INFORMATION CONTACT: If you have questions concerning the workshop, please call or email Mr. Wayne Lundy, U.S. Coast Guard; telephone 202-372-1379, email Wayne.M.Lundy@uscg.mil or Ms. Katherine Weiler, Environmental Protection Agency; telephone 202-566-1280, email Weiler.Katherine@epa.gov.

SUPPLEMENTARY INFORMATION: Your comment is important to us. If you submit a comment, please include the docket number shown at the beginning of this notice and provide a reason for each suggestion or recommendation.

We encourage you to submit comments through the Federal eRulemaking Portal at http://www.regulations.gov. If your material cannot be submitted using http://www.regulations.gov, contact us (see FOR FURTHER INFORMATION CONTACT) for alternate instructions. Documents mentioned in this notice, and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

This workshop is sponsored by the Coast Guard and the Environmental Protection Agency and is intended to be an interactive exchange of information between policymakers, industry experts, and interested members of the public. The primary topics that will be discussed include:

• Sewage treatment technologies;

• Issues concerning testing of marine sanitation devices for type approval;

• Simple on board checks for verifying performance of marine sanitation devices;

• Impact of gray water on the environment;

• Impact on the ship from processing gray water;

• Technologies for processing of gray water;

• Analytes for considering technologies treating gray water;

• Issues associated with existing federal standards and MARPOL Annex IV equipment standards (International Maritime Organization (IMO) resolution MEPC.227(64));

• Impact of No Discharge Zones; and

• Revision of an industry consensus standard, ASTM F2363—“Standard Specification for Sewage and Graywater Flow Through Treatment Systems”.

Please note that the workshop has a limited number of seats and may close early if all business is finished.

We encourage you to participate and join in discussions, subject to the discretion of the moderator. If you wish to attend the meeting via teleconference, arrange for assistance in attending the meeting in person, or make a presentation, contact us (see FOR FURTHER INFORMATION CONTACT; audiovisual arrangements will be available). If you bring written comments to the workshop, you may submit them at the meeting and we will place them on our docket.

This notice is issued under the authority of 5 U.S.C. 552(a).

Dated: 13 October, 2015.
J. G. Lantz,
Director of Commercial Regulations and Standards, U.S. Coast Guard.

[FR Doc. 2015-26363 Filed 10-15-15; 8:45 am]

BILLING CODE 9110-04-P